DEPARTMENT OF COMMERCE

National Oceanic and Atmospheric Administration

[I.D. 043004B]

Sea Turtle Conservation; Activities Related to Fishing

AGENCY: National Marine Fisheries Service (NMFS), National Oceanic and Atmospheric Administration (NOAA), Commerce.

ACTION: Notice of availability; request for comments.

SUMMARY: The National Marine Fisheries Service (NMFS) announces the availability of a draft information framework and draft criteria for evaluating gear with regard to the Strategy for Sea Turtle Conservation and Recovery in Relation to Atlantic Ocean and Gulf of Mexico Fisheries (Strategy). The Strategy is a plan to analyze sea turtle bycatch across gear types because certain types of gear are more prone to capturing turtles than others, depending on the way the gear is fished and the time and area within which it is fished. The information framework and evaluation criteria will lay the foundation for actions under the Strategy and the development of conservation measures.

DATES: Written comments on the information framework and evaluation criteria provided within this notice, or other information that NMFS should consider, are requested on or before June 28, 2004.

ADDRESSES: Comments should be sent to: Chief, Endangered Species Division, Office of Protected Resources, NMFS 1315 East-West Highway, Silver Spring, MD 20910. Comments may also be sent via fax to 301-713-0376. Comments on this notice may be submitted by e-mail. The mailbox address for providing e-mail comments on this action is PR3.Strategy@noaa.gov Include in the subject line of the e-mail comment the following document identifier: 043004. Comments sent via e-mail, including all attachments, must not exceed a 10-megabyte file size. References used in this document may be obtained by writing to this address or by telephoning the contact listed here (See FOR FURTHER INFORMATION CONTACT).

FOR FURTHER INFORMATION CONTACT: Barbara A. Schroeder (ph. 301-713-1401, fax 301-713-0376, e-mail Barbara.Schroeder@noaa.gov).

SUPPLEMENTARY INFORMATION:

Background

All sea turtles that occur in U.S. waters are listed as either endangered or threatened under the Endangered Species Act (ESA). The Kemp's ridley (Lepidochelys kempii), leatherback (Dermochelys coriacea), and hawksbill (Eretmochelys imbricata) are listed as endangered. Loggerhead (Caretta caretta), olive ridley (Lepidochelys olivacea) and green (Chelonia mydas) turtles are listed as threatened, except for Mexican breeding olive ridleys and populations of green turtles in Florida and on the Pacific coast of Mexico, which are listed as endangered.

Under the ESA and its implementing regulations, taking sea turtles--even incidentally--is prohibited, with exceptions identified in 50 CFR 223.206. Reduction of the incidental capture of sea turtles as a result of fishery operations has been identified as a priority task in all (ESA) sea turtle recovery plans for the Atlantic, Gulf of Mexico, and Caribbean.

On July 31, 2001, NMFS announced its intent to prepare an EIS to assess the potential impacts on the human environment of sea turtle interactions with fishing activities in the Atlantic and Gulf of Mexico as specified under the Strategy (66 FR 39474). NMFS received 10 comments on the Strategy.

Most commenters expressed support for the Strategy and asked to be included in the process. They felt that a gear-based approach to reducing sea turtle interactions in fisheries would address the issue of cumulative impacts resulting from various fisheries. However, four main areas of concern were expressed and are responded to below.

Comment 1: Several commenters felt the Strategy should include the Pacific and Caribbean fisheries.

Response: NMFS agrees that sea turtle interactions with fisheries in these regions are also of significant concern. However, given limited staff and funding resources, NMFS felt that focusing on the diverse fisheries operating in the Atlantic and Gulf of Mexico area was an appropriate first step to evaluating the efficacy of a gear-based approach. NMFS also felt that many of the priority fisheries in the Pacific, such as longline and drift gillnets, were being addressed through the ESA and Magnuson Stevens Fishery and Conservation Act (Magnuson-Stevens Act) regulations (66 FR 44549, August 24, 2001; 68 FR 69962, December 16, 2003; 69 FR 11540, March 11, 2004; 69 FR 17329, April 2, 2004). In addition, the State of Hawaii developed a conservation plan and submitted an application for an ESA section 10(a)(1)(B) incidental take permit that will address sea turtle interactions in their managed fisheries (67 FR 31172, May 9, 2002).

NMFS will continue to use its authority to address interactions with sea turtles in the Pacific and Carribean fisheries not identified in the Strategy.

Comment 2: Several commenters felt that non-fishery impacts should be evaluated and included in the Strategy or similar strategies should be prepared for these threats.

Response: NMFS attempts to consider all of the impacts to sea turtles cumulatively and to reduce threats from all known sources. Threats from non-fishery sources are identified in the joint NMFS and U.S. Fish and Wildlife Service (USFWS) ESA recovery plans completed for listed sea turtles occurring in the Atlantic and Gulf of Mexico. These recovery plans describe threats from all sources and prioritize conservation measures to remove or reduce such threats. As such, NMFS and USFWS work with other Federal agencies, states, private individuals and other entities to minimize the impacts to sea turtles from non-fishery activities (e.g., nesting habitat degradation, marine debris, dredging, power plant impingement). Nevertheless, fishing activities have been recognized as one of the most significant threats to sea turtle survival (Magnuson et al., 1990, Turtle Expert Working Group 2000). To respond to these threats, NMFS necessarily limited the Strategy to a comprehensive evaluation of the impacts of fishing gear types on sea turtles throughout the U.S. Atlantic Ocean and Gulf of Mexico.

Comment 3: Several commenters identified fishery actions that should be considered as a priority under the Strategy. These actions included implementing larger Turtle Excluder Devices (TEDs) in trawl fisheries, restricting leaders in the Chesapeake Bay pound net fishery, prohibiting large mesh gillnets and placing observers on Mid-Atlantic gillnet fisheries, and considering fishery closures to adequately address incidental take of sea turtles.

Response: NMFS has addressed several of the high priority fisheries identified. In 2003, NMFS issued a rule requiring larger TEDs in shrimp trawls(68 FR 8456) and a rule prohibiting gillnets greater than 8-inch(20.32-cm) stretched mesh in the Mid-Atlantic (67 FR 71895). In 2002, NMFS issued rules prohibiting the use of gillnets with a stretched mesh greater than 4.25 inches (10.80 cm) in Pamlico Sound (67 FR 56913) and prohibiting pound net leaders with mesh size greater than 12-inches (30.48-cm) stretched mesh and stringers in the Chesapeake Bay (67 FR 41196). In addition, NMFS has an active program for observing mid-Atlantic gillnets with approximately 800 sea-days conducted each year.

Comment 4: Several commenters expressed concern that the notice of intent to prepare an EIS lacked specific information on what actions were being proposed.

Response: NMFS agrees that the 2001 notice of intent to prepare an EIS (66 FR 39474) lacked specific information on what actions may be proposed. The 2001 notice was to provide the public with an opportunity to comment on the Strategy and to alert them that an EIS would be prepared for any decision making with regard to proposed actions to reduce sea turtle interactions in fisheries. In order to begin identifying various alternatives to be considered through an EIS, NMFS must gather and evaluate comprehensive information on gear types, fisheries practices, sea turtle bycatch, and existing management regulations. To that end, NMFS has prepared a draft information framework relevant to the Strategy and developed draft criteria for evaluating gear types under the Strategy.

Draft information framework and draft criteria for evaluating gear and fisheries

The purpose of this notice is to alert the interested public of the continuation of the Strategy scoping process and to allow the public an opportunity to review and comment on the information framework (Tables 1 and 2) and evaluation criteria. These three tables are designed to complement each other and provide the framework for a comprehensive evaluation of recreational and commercial fisheries in the Atlantic Ocean and Gulf of Mexico and their effects on sea turtles. NMFS is taking a stepped approach to implementing the Strategy, beginning with compiling and organizing information to characterize fisheries and sea turtle bycatch across gear types.

Table 1 provides a comprehensive list of gears used in the Atlantic Ocean and Gulf of Mexico in both state and Federal waters and commercial and recreational fisheries. Gear types are provided at the category, gear, and sub-gear levels to provide refinement in determining gear interactions with sea turtles. NMFS recognizes that gear may be more or less likely to interact with sea turtles depending on the way it is fished and the target species, so information on gear will be organized and evaluated at the most detailed level possible. When making comments on Table 1, please consider the following questions: Are all gear types used in the Atlantic Ocean and Gulf of Mexico represented in this table? Is this the best way to represent the gear categories? Would another approach be better?

Table 1 - List of gears used in the Atlantic Ocean and Gulf of Mexico Fisheries.
Category | Gear | Sub-Gear
Trawls | Beam Trawls | Beam Trawls, Fish
|  | Beam Trawls, Other - Shrimp, chopsticks
| Otter Trawls | Otter Trawl Bottom, Crab
|  | Otter Trawl Bottom, Fish
|  | Otter Trawl Bottom, Lobster
|  | Otter Trawl Bottom, Scallop
|  | Otter Trawl Bottom, Shrimp
|  | Otter Trawl Bottom, Other
|  | Otter Trawl Midwater Butterfly Nets
| Other Trawls | Trawl, Clam Kicking
|  | Trawl Midwater, Paired
|  | Trawl Bottom, Paired
|  | Trawl, Roller
|  | Trawl, Roller Frame
|  | Trawl, Skimmer
|  | Scottish Seine
|  | Butterfly Nets
|  | Danish Seine
|  | Whelk Trawls
|  | Jellyfish Trawls
|  | Fly Net
Seines | Haul Seines |
| Other Seines | Stop Seine
|  | Common Seine
|  | Swipe Seine
|  | Long Haul Seine
Purse Seines | Purse Seine | Purse Seine, Tarp
| Lampara/Ring Nets |
Gillnets | Gillnets | Gillnets, Floating Drift
|  | Gillnets, Sink Drift
|  | Gillnets, Floating Anchor
|  | Gillnets, Sink Anchor
|  | Gillnets, Runaround
|  | Gillnets, Stake
|  | Gillnets, other
| Trammel Nets | Trammel Nets, Floating Drift
|  | Trammel Nets, Sink Drift
|  | Trammel Nets, Floating Anchor
|  | Trammel Nets, Sink Anchor
|  | Trammel Nets, Runaround
|  | Trammel Nets, Other
Pots and Traps | Pots and Traps | Pots and Traps, Conch
|  | Pots and Traps, Blue Crab
|  | Pots and Traps, Crab, Peeler
|  | Pots and Traps, Crayfish
|  | Pots and Traps, Eel
|  | Pots and Traps, Fish
|  | Pots and Traps, Spiny Lobster
|  | Pots and Traps, Octopus
|  | Pots and Traps, Periwinkle or Conkle
|  | Pots and Traps, Shrimp
|  | Pots and Traps, Turtle
|  | Pots and Traps, Stone Crab
|  | Pots and Traps, Scup
|  | Pots and Traps, Black Sea Bass
|  | Pots and Traps, Reef Fish
|  | Pots and Traps, Hagfish
|  | Pots and Traps, Golden Crab
|  | Pots and Traps, Puffer
| Pots & Traps, Lobster | Pots and Traps, Lobster Inshore
|  | Pots and Traps, Lobster Offshore
|  | Pots and Traps, Lobster Double Parlor
| Pots & Traps, Other | Pots, Unclassified
|  | Box Traps
|  | Wire Baskets
|  | Slat Traps (Virginia)
Dredge | Dredge | Dredge, Hydraulic, Clam
|  | Dredge, Hydraulic Escalator, Clam
|  | Dredge, Clam
|  | Dredge, New Bedford/ Sea Scallop
|  | Dredge, Digby
|  | Dredge, inshore/bay
|  | Dredge, Oyster
Fixed Nets | Pound Nets |
| Fyke Nets |
| Fixed Nets, Other | Weirs
|  | Trap Nets
|  | Floating Traps (Shallow)
|  | Bag Nets
|  | Channel Nets
|  | Stop Nets
Hand Nets | Dip Nets | Cast Nets
|  | Bully Nets
|  | Snares
Longlines | Longlines | Longlines, Vertical
|  | Longlines, Surface
|  | Longlines, Bottom
|  | Longlines, Surface, Midwater
|  | Longlines, Trot
|  | Longlines, Turtle Hooks
|  | Longlines, Drift with Hooks
Hook and Line | Hook and Line | Hook and Line, Manual
|  | Hook and Line, Electric
|  | Electric/Hydraulic, Bandit Reels
| Troll Lines | Troll Line, Manual
|  | Troll Line, Electric
|  | Troll Line, Hydraulic
Hand Line | Hand Line | Troll and Hand Lines
|  | Hand Lines, Auto Jig
Rakes, Hoes, and Tongs |  |
Spears and Gigs |  |
By Hand |  |
Other Gears | Other Gears | Unspecified Gear
|  | Combined Gears
|  | Chemical

Table 2 is a fisheries characterization, bycatch, and regulations information framework and outlines the type of information that will be compiled at the sub-gear level or gear level for each gear type used in each fishery. This approach will aid in evaluating the impact of fisheries, by gear types, on sea turtles. When commenting on Table 2, please consider the following questions: Is there additional information that should be considered to better understand gear interactions with sea turtles? Is this list too detailed and, if so, what should be deleted and why? Is evaluating impacts across gear types the best way to analyze bycatch impacts on sea turtles?

Table 2 - Fisheries characterization, bycatch, and regulations information framework
Category | Information
Fishery characterization (across gear types) | Is this gear type used in state or Federal waters, or both?
| What is the geographic scope of this fishery?
| Is there a management plan in place? What is the name of the management plan?
| Are there permit requirements in this fishery and, if so, what are they?
| How many people hold a permit to participate in this fishery?
| How many permitted vessels are in this fishery?
| How many active vessels are in this fishery?
| What is the level of this gear use by vessels in this fishery (e.g., number of pots or pound nets)?
| What are the landings in this fishery?
| Which areas have the highest levels of landings?
| What is the effort in this fishery (e.g., days at sea or number of trips per month)?
| Which areas have the highest effort?
| When does this fishery occur, i.e., time of year?
| What is the peak season or months for this fishery?
| Is there a particular time of day that this fishery is prosecuted?
| How is the gear used in fishing (e.g., the range and average soak times, the depth the net is set for fishing)?
| What are the specifics of the gear used in this fishery (e.g., mesh size, pot configuration)?
Bycatch | Has this gear type, within this fishery, been observed for sea turtle bycatch?
| How many trips have been observed (e.g., what percentage of the total number of trips have been observed)?
| During which seasons or months and years have vessels in this fishery been observed?
| Has sea turtle bycatch been documented?
| If yes, which species?
| What are the observed lethal and non-lethal takes by season/month and year of observer coverage?
| Is there an estimation of lethal and non-lethal takes for this fishery? What is the coefficient of variation of the estimation?
Regulations | Are there regulations under the Endangered Species Act for sea turtles that apply to this fishery?
| Are there regulations under the Marine Mammal Protection Act that apply to this fishery that may affect sea turtles?
| Are there regulations under the Magnuson-Stevens Act that apply to this fishery that may affect sea turtles?
| Are there state regulations that apply to this fishery that may affect sea turtles?

The following lists criteria for evaluating gear types based upon documented or expected impact to sea turtles. These criteria will be applied to the information collected in table 2 to evaluate which fisheries or gear are of greatest concern and need to be considered first in actions under the Strategy. When commenting on the criteria list, please consider the following questions: Are the criteria appropriate for evaluating gear types relative to sea turtle bycatch? Would another approach be better? Are the criteria clear and objective? What other information should be added to improve this evaluation criteria?

Criteria for evaluating gear types

Characteristics of gear types that would be considered first priority relative to evaluating sea turtle bycatch:

•Widespread use of gear in areas with sea turtles

•Known/documented gear interactions with sea turtles are frequent

•Expected gear interactions with sea turtles are frequent

•Known/documented rate of sea turtle mortalities from gear interactions are high

•Expected rate of sea turtle mortalities from gear interactions are high

•Lack of effective management measures that benefit sea turtles

Characteristics of gear types that would be considered second priority relative to evaluating sea turtle bycatch:

•Moderate use of gear in areas with sea turtles

•Known/documented gear interactions with sea turtles are moderate in frequency

•Expected gear interactions with sea turtles are moderate in frequency

•Known/documented rate of sea turtle mortalities from gear interactions are moderate

•Expected rate of sea turtle mortalities from gear interactions are moderate

•Lack of effective management measures for sea turtles

Characteristics of gear types that would be considered third priority relative to evaluating sea turtle bycatch:

•Minimal use of gear in areas with sea turtles

•Known/documented gear interactions with sea turtles are rare

•Expected gear interactions with sea turtles are rare

•Known/documented rate of sea turtle mortalities from gear interactions are low

•Expected rate of sea turtle mortalities from gear interactions are low

•Effective management measures for sea turtles are in place

NMFS is continuing to seek input from the fishing industry, sea turtle experts, non-governmental organizations, academia, state representatives, and the public on a strategic approach to evaluate and reduce sea turtle interactions in the Atlantic Ocean and Gulf of Mexico fisheries. NMFS is requesting comments on the draft information framework and draft evaluation criteria and is seeking recommendations for additional analysis. Public involvement is critical to the successful implementation of the Strategy goals and will be sought in the development of conservation measures. Public meetings will be announced in a subsequent Federal Register notice and draft documents will be made available to the public for comment.

Dated: May 21, 2004.
Laurie K. Allen,
Director, Office of Protected Resources, National Marine Fisheries Service.

[FR Doc. 04-12169 Filed 5-27-04; 8:45 am]

BILLING CODE 3510-22-S